DEPARTMENT OF TRANSPORTATION

Federal Aviation Administration

[Policy Statement No. ANM-03-112-16]

High Altitude Cabin Decompression Interim Policy (Reference Amendment 25-87)

AGENCY: Federal Aviation Administration (FAA), DOT.

ACTION: Notice of final policy.

SUMMARY: The Federal Aviation Administration (FAA) announces the availability of final policy that provides FAA certification policy on the compliance issues associated with high altitude flight.

DATES: The final policy was issued by the Transport Airplane Directorate on March 24, 2006.

FOR FURTHER INFORMATION CONTACT: Stephen Happenny, Propulsion and Mechanical Systems Branch, ANM-112, Federal Aviation Administration, Transport Airplane Directorate, Transport Standards Staff, 1601 Lind Avenue, SW., Renton, WA 98055-4056; telephone (425) 227-2147; fax (425) 227-1232; e-mail: stephen.happenny@faa.gov

SUPPLEMENTARY INFORMATION:

Discussion of Comments

A notice of proposed policy was published in the Federal Register on May 30, 2003 (68 FR 32570). Five (5) commenters responded to the request for comments.

Background

The policy provides applicants with information on how the FAA will evaluate petitions for exemption from § 25.841(a), as amended by Amendment 25-87. For airplanes with wing-mounted engines, this regulation in effect limits the maximum operating altitude of airplanes approved to this standard to 40,000 feet. An Aviation Rulemaking Advisory Committee (ARAC) recommended that the FAA to develop a new safety standard, which is being addressed in rulemaking activities. That committee also asked for interim policy to be used during the rulemaking process, to provide relief because high altitude operations offer benefits in terms of reduced fuel consumption and better airspace utilization. This policy applies to the regulatory provisions regarding cabin pressure failures caused by uncontained engine failures. This policy does not provide relief from the regulatory cabin pressure limits for the more common types of failures (i.e., environmental systems and structural failures).

The final policy as well as the disposition of public comments is available on the Internet at the following address: http://www.airweb.faa.gov/rgl. If you do not have access to the Internet, you can obtain a copy of the policy by contacting the person listed under FOR FURTHER INFORMATION CONTACT.

Issued in Renton, Washington, on March 24, 2006.
Ali Bahrami,
Manager, Transport Airplane Directorate, Aircraft Certification Service.

[FR Doc. 06-3174 Filed 3-31-06; 8:45am]

BILLING CODE 4910-13-M